INTERNATIONAL TRADE COMMISSION

[Inv. No. 337-TA-538]

In the Matter of Certain Audio Processing Integrated Circuits and Products Containing Same; Notice of Commission Determination To Rescind a Limited Exclusion Order

AGENCY: U.S. International Trade Commission.

ACTION: Notice.

SUMMARY: Notice is hereby given that the U.S. International Trade Commission has determined to rescind the limited exclusion order issued in the above-captioned investigation.

FOR FURTHER INFORMATION CONTACT: Clint A. Gerdine, Office of the General Counsel, U.S. International Trade Commission, 500 E. Street, SW., Washington, DC 20436, telephone (202) 708-2310. Copies of non-confidential documents filed in connection with this investigation are or will be available for inspection during official business hours (8:45 a.m. to 5:15 p.m.) in the Office of the Secretary, U.S. International Trade Commission, 500 E. Street, SW., Washington, DC 20436, telephone (202) 205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on April 18, 2005, based on a complaint filed on behalf of SigmaTel, Inc. (“SigmaTel”) of Austin, Texas. 70 Federal Register 20172. The complaint alleged violations of section 337 (19 U.S.C. 1337) in the importation into the United States, the sale for importation, and the sale within the United States after importation of certain audio processing integrated circuits and products containing same by reason of infringement of claim 10 of U.S. Patent No. 6,137,279 (“the '279 patent”) and claim 13 of U.S. Patent No. 6,633,187 (“the '187 patent”). The complaint named a single respondent, Actions Semiconductor Co., Ltd. of Guangdong, China (“Actions”). The complaint further alleged that an industry in the United States exists, as required by subsection (a)(2) of section 337.

On July 8, 2005, the Commission determined not to review an initial determination (“ID”) granting SigmaTel's motion to amend the complaint and notice of investigation to add allegations of infringement of the previously asserted patents and to add an allegation of a violation of section 337 by reason of infringement of claims 1, 6, 9, and 13 of U.S. Patent No. 6,366,522 (“the '522 patent”). On October 31, 2005, the Commission determined not to review an ID granting complainant's motion to terminate the investigation as to the '279 patent.

On March 2006, the presiding administrative law judge (“ALJ”) issued his final ID and recommended determination on remedy and bonding. The ALJ found a violation of section 337 by reason of infringement of claim 13 of the '187 patent by Actions' accused product families 207X, 208X, and 209X, and of claims 1, 6, 9, and 13 of the '522 patent by Actions' accused product families 208X and 209X.

On May 5, 2006, the Commission determined to review the ID and requested submissions regarding the issues under review as well as remedy, the public interest and bonding. On September 15, 2006, the Commission determined that there is a violation of section 337 of the Tariff Act of 1930, as amended, and issued a limited exclusion order prohibiting the importation of Actions' infringing products.

On August 20, 2007, complainant SigmaTel and respondent Actions filed a joint petition to rescind the remedial order under Commission Rule 210.76(a)(1) on the basis of a settlement agreement between the parties. The parties asserted that their settlement agreement constituted “changed conditions of fact or law” sufficient to justify rescission of the order under Commission Rule 210.76(a)(1), 19 CFR 210.76(a)(1). The Commission investigative attorney filed a response in support of the petition on August 29, 2007.

Having reviewed the parties' submissions, the Commission has determined that the settlement agreement satisfies the requirement of Commission Rule 210.76(a)(1), 19 CFR 210.76(a)(1), that there be changed conditions of fact or law. The Commission therefore has issued an order rescinding the limited exclusion order previously issued in this investigation.

This action is taken under the authority of section 337 of the Tariff Act of 1930 (19 U.S.C. 1337) and section 210.76(a)(1) of the Commission's Rules of Practice and Procedure (19 CFR 210.76(a)(1)).

By order of the Commission.
Issued: September 11, 2007.
Marilyn R. Abbott,
Secretary to the Commission.

[FR Doc. E7-18206 Filed 9-17-07; 8:45 am]

BILLING CODE 7020-02-P